FEDERAL COMMUNICATIONS COMMISSION

Notice of Public Information Collection(s) Approved by the Office of Management and Budget

AGENCY: Federal Communications Commission.

ACTION: Notice.

SUMMARY: The Federal Communications Commission (Commission) has received Office of Management and Budget (OMB) approval for the following public information collection(s) pursuant to the Paperwork Reduction Act of 1995 (44 U.S.C. sections 3501-3520). An agency may not conduct or sponsor a collection of information unless it displays a currently valid OMB control number, and no person is required to respond to a collection of information unless it displays a currently valid OMB control number.

FOR FURTHER INFORMATION CONTACT: Judith Boley-Herman, Office of Managing Director, (202) 418-0214 or email PRA@fcc.gov.

SUPPLEMENTARY INFORMATION:

OMB Control Number: 3060-1122.

OMB Approval Date: May 17, 2012.

Expiration Date: May 31, 2015.

Title: Preparation of Annual Reports to Congress for the Collection & Expenditure of Fees or Charges for Enhanced 911 (E911) Services Under the NET 911 Improvement Act of 2008.

Form No.: Not applicable.

Estimated Annual Burden: 56 responses; 50 hours per response; 2800 hours total per year.

Obligation to Respond: Voluntary.

Nature and Extent of Confidentiality: There is no need for confidentiality.

Needs and Uses: This information collection enables the Federal Communications Commission (Commission) to fulfill its continuing obligations under the New and Emerging Technologies 911 Improvement Act of 2008, Public Law 110-283, 122 Stat. 2620 (2008) (NET 911 Act) to submit an annual “Fee Accountability Report” to the Committee on Commerce, Science, and Transportation of the Senate and the Committee on Energy and Commerce of the House of Representatives “detailing the status in each State of the collection and distribution [of] fees or charges” for “the support or implementation of 911 or enhanced 911 services,” including “findings on the amount of revenues obligated or expended by each State or political subdivision thereof for any purpose other than the purpose for which any such fees or charges are specified.” (NET 911 Act, 122 Stat. at 2622) The statute directs the Commission to submit annual reports.

The Commission is now revising this information collection in order to collect more detailed information regarding how states, territories, and other reporting jurisdictions collect and expend 911/E911 fees. Given this express Congressional concern with the appropriate use of collected fees, the Bureau believes that future reports to Congress should contain more detailed information about how states and other reporting jurisdictions determine what activities, programs, and organizations qualify as being “in support of 9-1-1 and enhanced 9-1-1 services, or enhancements of such services,” for purposes of qualifying to receive collected 911/E911 funds.

Federal Communications Commission.
Marlene H. Dortch,
Secretary.

[FR Doc. 2012-14601 Filed 6-14-12; 8:45 am]

BILLING CODE 6712-01-P